DEPARTMENT OF ENERGY

Federal Energy Regulatory Commission

[Project No. 2533-062]

Brainerd Public Utilities; Notice of Waiver of Water Quality Certification

On January 23, 2023, Brainerd Public Utilities filed an application for a license for the Brainerd Hydroelectric Project in the above captioned docket. On February 1, 2023, the Minnesota Pollution Control Agency (Minnesota PCA) received a complete request for a Clean Water Act section 401(a)(1) water quality certification from Brainerd Public Utilities in conjunction with the above captioned project.

On February 2, 2023, staff provided Minnesota PCA with written notice that the applicable reasonable period of time for it to act on the certification request was one (1) year from the date of receipt of the request, and that the certification requirement for the license would be waived if the certifying authority failed to act by February 1, 2024. Because Minnesota PCA did not act by February 1, 2024, we are notifying you pursuant to section 401(a)(1) of the Clean Water Act, 33 U.S.C. 1341(a)(1), that waiver of the certification requirement has occurred.

Dated: March 15, 2024.
Debbie-Anne A. Reese,
Acting Secretary.

[FR Doc. 2024-06044 Filed 3-20-24; 8:45 am]

BILLING CODE 6717-01-P